DEPARTMENT OF THE INTERIOR

National Park Service

[NPS-WASO-NAGPRA-NPS0031414; PPWOCRADN0-PCU00RP14.R50000]

Notice of Inventory Completion: Mütter Museum of the College of Physicians of Philadelphia, Philadelphia, PA

AGENCY: National Park Service, Interior.

ACTION: Notice.

SUMMARY: The Mütter Museum of the College of Physicians of Philadelphia has completed an inventory of human remain, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Mütter Museum of the College of Physicians of Philadelphia. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the address in this notice by March 11, 2021.

ADDRESSES: Lowell Flanders, Collections Manager, College of Physicians of Philadelphia, 19 S 22nd Street, Philadelphia, PA 19103, telephone (215) 560-8004, email lflanders@collegeofphysicians.org.

SUPPLEMENTARY INFORMATION: Notice is here given in accordance with the Native American Graves Protection and Repatriation Act (NAGPRA), 25 U.S.C. 3003, of the completion of an inventory of human remains under the control of the Mütter Museum of the College of Physicians of Philadelphia, Philadelphia, PA. The human remains were removed from “Old Crow Agency,” Big Horn County, Montana.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Mütter Museum of the College of Physicians of Philadelphia professional staff in consultation with representatives of the Crow Tribe of Montana.

History and Description of the Remains

At an unknown date in the 19th century, human remains representing, at minimum, one individual were removed from “Old Crow Agency” in Big Horn County, Montana. Circa 1885, the human remains, consisting of a skull, were donated to the Mütter Museum by George McClellan, M.D. (1849-1913), founder of the Pennsylvania School of Anatomy and Surgery. No known individual was identified. No associated funerary objects are present.

Tribal affiliation has been determined by the geographic location where the human remains were collected.

Determinations Made by the Mütter Museum of the College of Physicians of Philadelphia

Officials of the Mütter Museum of the College of Physicians of Philadelphia have determined that:

• Pursuant to 25 U.S.C. 3001(9), the human remains described in this notice represent the physical remains of one individual of Native American ancestry.

• Pursuant to 25 U.S.C. 3001(2), there is a relationship of shared group identity that can be reasonably traced between the Native American human remains and the Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Lower Sioux Indian Community in the State of Minnesota; Oglala Sioux Tribe (previously listed as Oglala Sioux Tribe of the Pine Ridge Reservation, South Dakota); Prairie Island Indian Community in the State of Minnesota; Rosebud Sioux Tribe of the Rosebud Indian Reservation, South Dakota; Shakopee Mdewakanton Sioux Community of Minnesota; Spirit Lake Tribe, North Dakota; Standing Rock Sioux Tribe of North & South Dakota; Upper Sioux Community, Minnesota; and the Yankton Sioux Tribe of South Dakota (hereafter referred to as “The Tribes”).

Additional Requestors and Disposition

Lineal descendants or representatives of any Indian Tribe or Native Hawaiian organization not identified in this notice that wish to request transfer of control of these human remains should submit a written request with information in support of the request to Lowell Flanders, Collections Manager, College of Physicians of Philadelphia, 19 S 22nd Street, Philadelphia, PA 19103, telephone (215) 560-8004, email lflanders@collegeofphysicians.org, by March 11, 2021. After that date, if no additional requestors have come forward, transfer of control of the human remains to The Tribes may proceed.

The Mütter Museum of the College of Physicians of Philadelphia is responsible for notifying The Tribes that this notice has been published.

Dated: January 21, 2021.
Melanie O'Brien,
Manager, National NAGPRA Program.

[FR Doc. 2021-02607 Filed 2-8-21; 8:45 am]

BILLING CODE 4312-52-P